DEPARTMENT OF ENERGY

Federal Energy Regulatory Commission

[Project No. 3451-047]

Beaver Falls Municipal Authority; Notice of Intent To Prepare an Environmental Assessment

On August 1, 2022,¹ Beaver Falls Municipal Authority filed a relicense application for the 5-megawatt Townsend Water Power Project No. 3451. The project is located on the Beaver River in the Borough of New Brighton in Beaver County, Pennsylvania.

¹ The Commission's Rules of Practice and Procedure provide that if a deadline falls on a Saturday, Sunday, holiday, or other day when the Commission is closed for business, the deadline does not end until the close of business on the next business day. 18 CFR 385.2007(a)(2). Because the deadline for filing a license application fell on a Sunday (i.e., July 31, 2022), the deadline was extended until the close of business on Monday, August 1, 2022.

In accordance with the Commission's regulations, on December 12, 2024, Commission staff issued a notice that the project was ready for environmental analysis (REA Notice). Based on the information in the record, including comments filed on the REA Notice, staff does not anticipate that licensing the project would constitute a major Federal action significantly affecting the quality of the human environment. Therefore, staff intends to prepare an Environmental Assessment (EA) on the application to relicense the project.²

² For tracking purposes under the National Environmental Policy Act, the unique identification number for documents relating to this environmental review is EAXX-019-20-000-1739953194. 40 CFR 1501.5(c)(4) (2024).

The EA will be issued and circulated for review by all interested parties. All comments filed on the EA will be analyzed by staff and considered in the Commission's final licensing decision.

The Commission's Office of Public Participation (OPP) supports meaningful public engagement and participation in Commission proceedings. OPP can help members of the public, including landowners, community organizations, Tribal members, and others, access publicly available information and navigate Commission processes. For public inquiries and assistance with making filings such as interventions, comments, or requests for rehearing, the public is encouraged to contact OPP at (202) 502-6595 or OPP@ferc.gov.

The application will be processed according to the following schedule. The EA will be issued for a 30-day comment period. Revisions to the schedule may be made as appropriate.

Milestone | Target date
Commission issues EA | February 18, 2026.

Any questions regarding this notice may be directed to Claire Rozdilski at (202) 502-8259 or claire.rozdilski@ferc.gov.

Dated: February 19, 2025.
Debbie-Anne A. Reese,
Secretary.

[FR Doc. 2025-03083 Filed 2-25-25; 8:45 am]

BILLING CODE 6717-01-P